DEPARTMENT OF ENERGY

Federal Energy Regulatory Commission

[Docket No. RP06-318-000]

Natural Gas Pipeline Company of America; Notice of Petition for Waivers

April 27, 2006.

Take notice that on April 25, 2006, Natural Gas Pipeline Company of America (Natural) tendered for filing a petition for waiver of certain provisions of Natural's FERC Gas Tariff, Sixth Revised Volume No.1, to assist shippers in responding to a situation which will temporarily reduce capacity on a portion of Natural's Amarillo system.

Natural states that as part of its Pipeline Integrity Management Program, Natural is evaluating sections of its Amarillo Mainline No. 3 from its Compressor Station No. 110 in Henry County, Illinois (CS10) approximately 106 miles to Natural's Compressor Station 113 near Joliet, Illinois in Will County. Natural states that these sections are part of Natural's Segment No. 14.

Natural states that it plans to run an in-line inspection tool for one day through a portion of its Segment 14 on May 9, 2006. On May 24, 2006, Natural states that it plans to run a second in-line inspection tool for one day through the same portion of its Segment 14. Natural points out that these two pig runs will each necessitate a reduction in available capacity through the affected area on days when the inspection tool runs take place. Because it is possible additional inspection operations may be needed, Natural asks that the waivers apply during all outage periods that may occur between May 9, 2006 to May 31, 2006.

Natural requests that the Commission grant the subject petition for waiver by May 5, 2006, to enable Natural's shippers to plan their nominations for the weeks of May 8 and May 22 in advance of any service reductions related to the two planned outage periods.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention and Protest Date: 5 p.m. eastern time May 2, 2006.

Magalie R. Salas,
Secretary.

[FR Doc. E6-6832 Filed 5-4-06; 8:45 am]

BILLING CODE 6717-01-P